DEPARTMENT OF AGRICULTURE

Forest Service

Lee Canyon Ski Area Master Development Plan Phase I Environmental Impact Statement. Humboldt-Toiyabe National Forest, Spring Mountains National Recreation Area, Clark County, Nevada

AGENCY: Forest Service, USDA.

ACTION: Notice of intent to prepare an Environmental Impact Statement.

SUMMARY: The USDA Forest Service has received a proposal from Lee Canyon ski area to implement the first phase of their accepted master development plan (MDP). Lee Canyon is a mountain resort located 30 miles northwest of Las Vegas, Nevada, in the Spring Mountains National Recreation Area (SMNRA). The MDP is a multi-year plan for improvement and expansion of facilities at the ski area, which operates under a Forest Service special use permit. The Forest Service will prepare an environmental impact statement (EIS) to analyze and disclose the potential environmental consequences of authorizing Lee Canyon to implement the first phase of the MDP, which would include updating existing facilities and developing new winter and summer recreation opportunities within the existing ski area permit boundary. Construction would begin soon after the signing of the record of decision (ROD), and would be completed within 5 years.

DATES: Comments concerning the scope of the analysis must be received in writing within 45 days following the publication of this notice of intent in the Federal Register. The draft EIS (DEIS) is expected in January 2018 and the final EIS (FEIS) is expected in October 2018. A public open house is proposed for January 2018 during the formal comment period for the DEIS shortly following release of the DEIS.

ADDRESSES: Electronic comments are encouraged. Send comments to leecanyoneis@fs.fed.us. Mail written comments to Donn Christiansen, Area Manager, Spring Mountains National Recreation Area, 701 N. Torrey Pines Dr., Las Vegas, NV 89130.

FOR FURTHER INFORMATION CONTACT: For additional information concerning this project, please contact Chris Linehan, Interdisciplinary Team Leader, at 702-515-5401 or clinehan@fs.fed.us. Information about this EIS will be posted on the internet at: https://www.fs.usda.gov/project/?project=50649.

This Web site will be used to post all public documents during the environmental review process and announce opportunities for public participation and comment.

SUPPLEMENTARY INFORMATION: This notice of intent initiates the scoping process, which guides the development of the EIS. The Forest Service will be seeking information, comments, and assistance from federal, state, and local agencies, American Indian Tribes, as well as other individuals and organizations that may be interested in or affected by the proposed project. Comments on the proposed project should be in writing and should be specific to the proposed action, describing as clearly and completely as possible any issues or concerns the commenter has with the proposal. Comments received, including the names and addresses of those who comment, will become part of the public record for this EIS and will be available on request for public inspection (see 40 CFR 1501.7 and 1508.22; Forest Service Handbook 1909.15, Section 21).

Purpose and Need for Action: Two factors underlie the purpose and need for action at Lee Canyon: The length of time since the resort's facilities have been upgraded and emerging trends in winter recreation.

In 1962, the Forest Service issued the first special use permit for Lee Canyon ski area to the Clark County Board of Commissioners, establishing one the older ski areas in the West with two rope tows, a cable ski sled, and a warming hut operated by the Las Vegas Ski Club. Over the next 20 years, ownership changed and the existing Chair 1 (Sherwood) lift and lifts in the approximate locations of Chairs 2 and 3 (Bluebird and Rabbit Peak) were constructed. The existing base area structures were also built and expanded during this time period. Powdr Corp. acquired an ownership interest in Lee Canyon in 2004. Since that time Chairs 2 and 3 were replaced and the snowmaking reservoir was built, but the overall character of the resort remains dated.

In May of 2011, Lee Canyon submitted a MDP to the Forest Service with the goals of modernizing the ski area and developing underutilized portions of the permit area. The Forest Service accepted the MDP in June of 2011.

Extensive customer surveys conducted by Lee Canyon and other resorts indicate that visitors are increasingly seeking a more diverse range of recreational activities, particularly for families, that includes year-round opportunities and more adventurous options. The Forest Service response to this trend includes our 2012 introduction of the Framework for Sustainable Recreation, which sets goals for providing a diverse array of recreational opportunities aimed at connecting people with the outdoors and promoting healthy lifestyles, in partnership with other public and private recreation providers.

Also, passage of the Ski Area Recreational Opportunity Enhancement Act of 2011 provides direction on the types of summer activities the Forest Service should consider authorizing to round out the range of opportunities provided to the public at permitted mountain resorts. Reflecting these developments, the purpose and need for the proposed action is to:

• Update and renovate ski area infrastructure, particularly run-down base facilities, to meet current standards and the expectations of today's recreation market.

• Improve balance on several levels: Between lift and run capacity, between on-mountain and base-area capacity, and between overall ski area capacity and growing recreational demand from Las Vegas and the surrounding area.

• Develop year-round recreational opportunities to meet increasing demand by recreationists of various types and skill levels.

Proposed Action: The Forest proposes to authorize Lee Canyon to implement the first phase of the ski area's accepted MDP. The development of the first phase of the MDP is the result of a collaborative, multi-year process involving input from Lee Canyon ski area, the Forest Service, and the U.S. Fish and Wildlife Service. All elements of the proposed action fall within the permitted boundaries of the Lee Canyon ski area. If authorized, it is anticipated that the elements described below would be implemented within 5 years of authorization. The first phase of the MDP includes:

Lift 4: Lift 4 would be designed for first-time skiers, providing them the opportunity to get a feel for being on skis or boards, riding a lift, and sliding on a very mild grade—a “bunny hill.” It would be a moving carpet lift about 450 feet long, with a vertical rise of 80 feet, running the length of the beginner slope, along the skier's left edge. It would be installed on a raised berm on ties or concrete blocks.

Chair 5: The Chair 5 pod (i.e., lift and associated ski runs) would be the next step up from the bunny hill, providing beginners and low intermediate skiers the opportunity to transition to a chairlift and ski a variety of longer “green” runs. Chair 5 would be a 1,800 person-per-hour (pph) fixed-grip quad chairlift with a loading conveyor. The lift would be 1,275 feet long, with a vertical rise of 310 feet.

New ski runs in this pod would incorporate design features to make them less visually striking, including feathered edges, tree islands, and strategic placement to make them less visible from sensitive viewpoints. Traverses would be cut to provide access to the lower terminal and to the lower terminals of Chairs 1 and 2 as well as the base area.

Chair 8: Similar to existing Chair 2, Chair 8 would be a step up in difficulty from Chair 5, accessing mostly intermediate runs with some easier and some more difficult terrain within that category. It would be a fixed-grip quad chairlift with a capacity of 1,800 pph, 2,200 feet long, with a vertical rise of 650 feet.

Skiers would use Chair 2 to access the Chair 8 pod. The conceptual ski runs in this pod were adjusted to minimize visual impact, as discussed above for Chair 5.

Tree and Glade Skiing: Three areas with the potential for tree skiing have been identified. The first, a parcel of about 5.5 acres, is a tree island between Keno and Blackjack runs, in the Chair 1 pod. The second, about 16 acres, lies above the snow-making reservoir, accessed from Chairs 1 and 2. The third, about 12 acres, is in the lower portion of the Chair 8 pod, with access from that lift.

The intent of these glading projects is to open up areas that are currently too densely forested for most skiers to navigate comfortably. Smaller trees, infirm or damaged trees, and white fir trees would be the priorities for removal. Work would be done by hand or, in some areas, using equipment such as feller-bunchers.

Snowmaking Coverage: Expanding the snowmaking system would provide the option to use available water to make snow where it was most needed. This proposal entails expanding coverage to several existing runs in the Chair 1 and Chair 2 pods initially, then to all primary runs in the Chair 5 pod and two main runs in Chair 8 pod when those pods are developed. The amount of water available is a factor determining the pace of snowmaking expansion, and the 2010 expansion of the snowmaking pond created new options.

The infrastructure necessary to complete this system expansion includes buried water and electric lines, surface hydrants to connect snowmaking guns, and an additional pump house (roughly 600 square feet) when snowmaking in the Chair 8 pod is developed.

Mountain Coaster: Mountain coasters are a relatively new type of recreation at mountain resorts, used primarily during the summer but popular during winter as well where conditions allow. Gravity-powered cars holding individual riders or pairs travel on a dual-rail track. They start at a loading/unloading terminal at the bottom, are pulled up to the top of the circuit on a straight uphill segment, and then are released onto a downhill segment with turns, climbs, and dips. The track averages 4 to 6 feet above ground level but peaks can be up to 20 feet high. The coasters are quiet. They are not an amusement park-style development but a recreational amenity developed specifically to provide an exhilarating experience in the mountain environment, and that environment is central to their concept and popularity.

This mountain coaster would be installed west of the base area. The top of the circuit would be near the summit of the 9,270-foot peak above the Bristlecone Trail, and the downhill track would run down the slope to the southeast. The loading/unloading terminal would be in the mid-mountain area. The mountain coaster would pass over trails and sensitive habitat with bridge spans so collisions with trail users or impacts to sensitive plant and animal habitats could be avoided.

Mountain Bike Trails: Mountain biking has increased steadily in popularity for a number of years, and it was one of the first summer activities authorized at ski areas on National Forest System land. While mountain biking is allowed on the SMNRA's Bristlecone Trail, including the portion passing through the ski area, the Lee Canyon ski area has offered no dedicated mountain bike facilities to date. This proposal includes construction of a 13-mile system including cross-country-type trails of various difficulty levels and one expert-level downhill-type trail.

All trails, with the exception of the dual-use trail described in the next section, would be restricted to downhill traffic. Cross-country trails are intended to be ridden on a cross-country, or XC-style, mountain bike. Downhill trails are intended to be ridden on a downhill style mountain bike. In terms of construction, the downhill trail would be wider and would include technical features (i.e., jumps, bridges, seesaws, etc.) built of earth, rock, or wood. Average width of cross-country trails would be 2 feet, while the downhill trail would average 4 feet.

Uphill access for lift-served mountain biking would be via Chair 2. There would be 4 miles of easier trails, 6.25 miles of intermediate trails, 1.75 miles of advanced trails, and 1 mile of expert/downhill trail.

Hiking Trails: Hiking would be allowed on one of the mountain bike trails descending from the upper terminal of Chair 2 to the mid-mountain base area. Lift rides are popular with summer visitors, who subsequently make their own way down the mountain, often through sensitive habitat. This trail, coupled with interpretive signage identifying habitat areas and explaining the importance of staying on the trail, would reduce potential damage. The hiking/biking trail would be one of the easier-rated trails, and would be constructed with three times the width (6 feet wide) of other cross-country trails, thereby reducing collision hazards.

Zip Line: A zip line is a pulley and brake system on an inclined cable which allows the rider, suspended from the pulley in a harness, to traverse the length of the cable at a controllable speed. Zip lines provide an opportunity to experience the forest canopy while having an exciting ride at the same time. The proposed zip line would descend from a launch station in the upper portion of Chair 2 pod to a final landing station toward the bottom of the new Chair 5 pod. The entire experience would involve two segments of zip line with an interpretive trail between segments. This trail would be 200 to 300 feet long and would include signage featuring native flora and fauna. A similar interpretive trail would be constructed to bring riders from the landing back to the base area.

Installation would require a 30-foot corridor clear of trees, but much of the alignment would lie above treetop height, in natural openings, or along cleared ski trails. Only launch and landing towers would be required, as the cable between them would be a free, unsupported span. The four steel launch and landing towers would be up to 25 feet high, and the cable height would range up to 150 feet above the ground, depending on the ground contour.

Equipment Rental/Food & Beverage Building: This building would provide approximately 20,000 square-feet of floor space, split between two or possibly three levels. Specific functions would include ski and snowboard rental, food and beverage service, group/banquet space, restrooms, and storage. It would be designed and constructed to reflect a consistent architectural theme for the resort.

Skier Services Building: This building would provide approximately 4,000 square-feet of floor space on a lower level for restrooms and dining space. A second level would provide approximately 1,000 square feet of food and beverage space with outdoor deck seating on the remainder of the space. Due to the pressing need for the services it would provide, this building may be withdrawn from the Proposed Action and processed separately in the near future, but at this stage it remains part of the Proposed Action.

First Aid/Ski Patrol Building: This permanent structure would house key public safety and administrative functions at the lower base area. These would include ski patrol headquarters, first aid services, employee offices, and meeting space. It would comprise about 10,000 square feet on two levels. Power and water would be brought in from the existing maintenance building, and sewer lines would be installed in an existing utility corridor along Lift 4.

Vault Toilet Facility at Overflow Parking Lot: The overflow lot is roughly a 15-minute walk from the nearest restroom facilities. The addition of toilet facilities at the parking lot is necessary to improve the experience of both winter and summer visitors. The facility has been sited to avoid impacts on sensitive habitat adjacent to the parking area. It would be a simple, pre-cast structure, with men's and women's sides, installed on a 12-foot-by-20-foot pad.

New Parking Lot: Parking capacity at Lee Canyon ski area is not sufficient for projected peak-day conditions. This proposal addresses the shortfall primarily through development of a new parking lot below the beginner area. The 3.6-acre paved lot would accommodate about 500 cars, or 1,250 visitors at the industry standard of 2.5 per car. In combination with existing lots, this would accommodate the 3,000-person comfortable carrying capacity of the resort following this expansion.

A new, two-way access road, about 1,500 feet long with a 20-foot-wide, paved surface, would be developed from the existing overflow lot to the new lot. It would run along the western edge of the parking lot, with entries to the lot near the northwest corner and the southwest corner.

Gate House: A small (roughly 6 feet by 10 feet) gate house would be constructed between the in- and outbound lanes of the Lee Canyon ski area access road, at the site of the existing gate below the entrance to the overflow parking lot. The purpose of this structure would be to control parking access and collect parking fees.

Water Tank: The ski area's current culinary water storage tank is insufficient in capacity and in need of replacement. A new 120,000-gallon steel, above-ground tank would be installed west of the snowmaking reservoir, in a grove of trees on the skier's left side of Snake ski run. This site is accessible, adjacent to in-place piping, and partially screened by vegetation. The existing concrete tank would be abandoned in place, as it is buried beneath occupied sensitive habitat on the Bimbo run.

Lead and Cooperating Agencies: The Forest Service will be the lead federal agency in accordance with 40 Code of Federal Regulations (CFR) 1501.5(b) and is responsible for the preparation of the EIS. Scoping will determine if any cooperating agencies are needed.

Responsible Official: The Forest Service responsible official for this EIS is William A. Dunkelberger, Forest Supervisor, Humboldt-Toiyabe National Forest Supervisor's Office, 1200 Franklin Way, Sparks, Nevada 89431, phone (775) 355-5310.

Decision to Be Made: The responsible official will decide whether to authorize Lee Canyon to implement the action as proposed or modified, or to take no action. The responsible official will also decide what mitigation measures and monitoring will be required. A Forest Plan amendment may be required for one or more actions to be authorized (SMNRA GMP, Management Area 11.57 Standards and Guidelines, p. 11-35).

Preliminary Issues: Preliminary issues include potential effects on: watershed resources, special-status plant and animal species, heritage resources, and scenic integrity.

Early Notice of Importance of Public Participation in Subsequent Environmental Review: A DEIS will be prepared for comment. The comment period on the DEIS will be 45 days from the date the Environmental Protection Agency publishes the Notice of Availability in the Federal Register.

To assist the Forest Service in identifying and considering issues and concerns on the proposed action, comments on the DEIS should be as specific as possible. It is also helpful if comments refer to specific pages or sections of the DEIS. Comments may also address the adequacy of the DEIS or the merits of the alternatives formulated and discussed in the DEIS. Reviewers may wish to refer to the Council on Environmental Quality Regulations for implementing the procedural provisions of the National Environmental Policy Act at 40 CFR 1503.3 in addressing these points.

Dated: March 13, 2017.
William A. Dunkelberger,
Forest Supervisor.

[FR Doc. 2017-05754 Filed 3-22-17; 8:45 am]

BILLING CODE 3411-15-P